DEPARTMENT OF TRANSPORTATION

Federal Aviation Administration

14 CFR Part 39

[Docket No. FAA-2009-0889; Directorate Identifier 2009-NE-35-AD]

RIN 2120-AA64

Airworthiness Directives; Turbomeca Arriel 2B and 2B1 Turboshaft Engines

AGENCY: Federal Aviation Administration (FAA), DOT.

ACTION: Notice of proposed rulemaking (NPRM).

SUMMARY: We propose to adopt a new airworthiness directive (AD) for the products listed above. This proposed AD results from mandatory continuing airworthiness information (MCAI) issued by an aviation authority of another country to identify and correct an unsafe condition on an aviation product. The MCAI describes the unsafe condition as:

Several events of uncoupling of the low-pressure (LP) fuel pump impeller and the high-pressure (HP) fuel pump shaft have been reported on Arriel 2 engines which do not incorporate Modification TU 147. In most cases the “low fuel pressure switch” enlightened, the pilot activated the aircraft booster pump in accordance with the Flight Manual Instructions and landed safely with no other incident. One case, on a single-engine helicopter, led to a sudden engine power loss. The uncoupling of the LP fuel pump impeller and the HP fuel pump shaft may lead to a limitation of engine power or, at worst, an uncommanded in-flight shutdown. On a single-engine helicopter, the result may be an emergency autorotation landing.

We are proposing this AD to prevent forced autorotation landing, or an accident.

DATES: We must receive comments on this proposed AD by December 7, 2009.

ADDRESSES: You may send comments by any of the following methods:

• Federal eRulemaking Portal: Go to http://www.regulations.gov and follow the instructions for sending your comments electronically.

• Mail: Docket Management Facility, U.S. Department of Transportation, 1200 New Jersey Avenue, SE., West Building Ground Floor, Room W12-140, Washington, DC 20590-0001.

• Hand Delivery: Deliver to Mail address above between 9 a.m. and 5 p.m., Monday through Friday, except Federal holidays.

• Fax: (202) 493-2251.

Contact Turbomeca, 40220 Tarnos, France; telephone (33) 05 59 74 40 00, fax (33) 05 59 74 45 15, for the service information identified in this proposed AD.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is the same as the Mail address provided in the ADDRESSES section. Comments will be available in the AD docket shortly after receipt.

FOR FURTHER INFORMATION CONTACT: James Lawrence, Aerospace Engineer, Engine Certification Office, FAA, Engine and Propeller Directorate, 12 New England Executive Park, Burlington, MA 01803; e-mail: james.lawrence@faa.gov; telephone (781) 238-7176; fax (781) 238-7199.

SUPPLEMENTARY INFORMATION:

Comments Invited

We invite you to send any written relevant data, views, or arguments about this proposed AD. Send your comments to an address listed under the ADDRESSES section. Include “Docket No. FAA-2009-0889; Directorate Identifier 2009-NE-35-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact with FAA personnel concerning this proposed AD. Using the search function of the Web site, anyone can find and read the comments in any of our dockets, including, if provided, the name of the individual who sent the comment (or signed the comment on behalf of an association, business, labor union, etc.). You may review the DOT's complete Privacy Act Statement in the Federal Register published on April 11, 2000 (65 FR 19477-78).

Discussion

The European Aviation Safety Agency (EASA), which is the Technical Agent for the Member States of the European Community, has issued EASA Airworthiness Directive 2009-0184, dated August 14, 2009 (referred to after this as “the MCAI”), to correct an unsafe condition for the specified products. The MCAI states:

Several events of uncoupling of the LP fuel pump impeller and the HP fuel pump shaft have been reported on Arriel 2 engines which do not incorporate Modification TU 147. In most cases the “low fuel pressure switch” enlightened, the pilot activated the aircraft booster pump in accordance with the Flight Manual Instructions and landed safely with no other incident. One case, on a single-engine helicopter, led to a sudden engine power loss. The uncoupling of the LP fuel pump impeller and the HP fuel pump shaft may lead to a limitation of engine power or, at worst, an uncommanded in-flight shutdown. On a single-engine helicopter, the result may be an emergency autorotation landing.

You may obtain further information by examining the MCAI in the AD docket.

Relevant Service Information

Turbomeca has issued Mandatory Service Bulletin No. A292 73 2830, Version B, dated July 10, 2009. The actions described in this service information are intended to correct the unsafe condition identified in the MCAI.

FAA's Determination and Requirements of This Proposed AD

This product has been approved by the aviation authority of France, and is approved for operation in the United States. Pursuant to our bilateral agreement with France, they have notified us of the unsafe condition described in the MCAI and service information referenced above. We are proposing this AD because we evaluated all information provided by EASA and determined the unsafe condition exists and is likely to exist or develop on other products of the same type design. This proposed AD would require the checking of the transmissible torque between the LP pump impeller and the HP pump shaft, on HP/LP pump metering units (HMUs) that do not incorporate Modification TU 147. This proposed AD would also require replacing the HMU if it fails with an HMU that has not incorporated Modification TU 147 but passes the check, or with an HMU that incorporates Modification TU 147.

Differences Between This AD and the MCAI or Service Information

The MCAI requires the checking of the transmissible torque between the LP pump impeller and the HP pump shaft within 550 engine flight hours from the effective date of the AD, but no later than June 30, 2010.

This proposed AD would require the checking of the transmissible torque between the LP pump impeller and the HP pump shaft within 550 engine flight hours from the effective date of the proposed AD.

Costs of Compliance

Based on the service information, we estimate that this proposed AD would affect about 414 engines installed on helicopters of U.S. registry. We also estimate that it would take about 2.5 work-hours per engine to comply with this proposed AD. The average labor rate is $80 per work-hour. Replacement HMUs would cost about $12,000 per engine. Based on these figures, if all of the HMUs were to fail the check, we estimate the cost of the proposed AD on U.S. operators to be $5,050,800.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Turbomeca: Docket No. FAA-2009-0889; Directorate Identifier 2009-NE-35-AD.

Comments Due Date

(a) We must receive comments by December 7, 2009.

Affected Airworthiness Directives (ADs)

(b) None.

Applicability

(c) This AD applies to Turbomeca Arriel 2B and 2B1 turboshaft engines that have not incorporated Modification TU 147. These engines are installed on, but not limited to, Eurocopter AS 350 B3 and EC 130 B4, and Chaughe Z11, helicopters.

Reason

(d) This AD results from mandatory continuing airworthiness information (MCAI) issued by an aviation authority of another country to identify and correct an unsafe condition on an aviation product. We are issuing this AD to prevent forced autorotation landing, or an accident.

Actions and Compliance

(e) Unless already done, do the following actions.

(1) Within 550 engine flight hours from the effective date of this AD, check the transmissible torque between the low-pressure (LP) pump impeller and the high-pressure (HP) pump shaft of the HP/LP pump metering unit (HMU). Use paragraph 2 of the Instructions to be Incorporated of Turbomeca Alert Service Bulletin No. A292 73 2830, Version B, dated July 10, 2009, to do the check.

(2) If the check is compliant, apply the nominal tightening torque to the screw of the LP pump impeller.

(3) If the check is not compliant, replace the HP/LP pump metering unit with a unit that has not incorporated Modification TU 147 but has passed the check, or with a unit that has incorporated Modification TU 147.

FAA AD Differences

(f) This AD differs from the MCAI and/or service information as follows:

(1) The MCAI requires the checking of the transmissible torque between the LP pump impeller and the HP pump shaft within 550 engine flight hours from the effective date of the AD, but no later than June 30, 2010.

(2) This AD requires the checking of the transmissible torque between the LP pump impeller and the HP pump shaft within 550 engine flight hours from the effective date of this AD.

Alternative Methods of Compliance (AMOCs)

(g) The Manager, Engine Certification Office, FAA, has the authority to approve AMOCs for this AD, if requested using the procedures found in 14 CFR 39.19.

Related Information

(h) Refer to MCAI European Aviation Safety Agency Airworthiness Directive 2009-0184, dated August 14, 2009, and Turbomeca Mandatory Service Bulletin No. A292 73 2830, Version B, dated July 10, 2009, for related information. Contact Turbomeca, 40220 Tarnos, France; telephone (33) 05 59 74 40 00, fax (33) 05 59 74 45 15, for a copy of this service information.

(i) Contact James Lawrence, Aerospace Engineer, Engine Certification Office, FAA, Engine and Propeller Directorate, 12 New England Executive Park, Burlington, MA 01803; e-mail: james.lawrence@faa.gov; telephone (781) 238-7176; fax (781) 238-7199, for more information about this AD.

Issued in Burlington, Massachusetts, on October 27, 2009.
Peter A. White,
Assistant Manager, Engine and Propeller Directorate, Aircraft Certification Service.

[FR Doc. E9-26730 Filed 11-4-09; 8:45 am]

BILLING CODE 4910-13-P